DEPARTMENT OF HOMELAND SECURITY

Federal Emergency Management Agency

[Docket ID FEMA-2022-0002; Internal Agency Docket No. FEMA-B-2278]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Arkansas:
Benton | City of Bella Vista (21-06-1411P). | The Honorable Peter A. Christie, Mayor, City of Bella Vista, P.O. Box 5655, Bella Vista, AR 72714. | Community Development Services Department, 616 West Lancashire Boulevard, Bella Vista, AR 72715. | https://msc.fema.gov/portal/advanceSearch. | Dec. 29, 2022 | 050511
Johnson | City of Clarksville (22-06-0649P). | The Honorable David Rieder, Mayor, City of Clarksville, 205 Walnut Street, Clarksville, AR 72830. | Public Works Department, 205 Walnut Street, Clarksville, AR 72830. | https://msc.fema.gov/portal/advanceSearch. | Dec. 29, 2022 | 050112
Johnson | Unincorporated areas of Johnson County (22-06-0649P). | The Honorable Herman H. Houston, Johnson County Judge, 215 West Main Street, Clarksville, AR 72830. | Johnson County Emergency Management Department, 215 West Main Street, Clarksville, AR 72830. | https://msc.fema.gov/portal/advanceSearch. | Dec. 29, 2022 | 050441
Colorado:
Broomfield | City and County of Broomfield (21-08-0961P). | The Honorable Guyleen Castriotta, Mayor, City and County of Broomfield, 1 DesCombes Drive, Broomfield, CO 80020. | Engineering Department, 1 DesCombes Drive, Broomfield, CO 80020. | https://msc.fema.gov/portal/advanceSearch. | Dec. 23, 2022 | 085073
Denver | City and County of Denver (22-08-0408P). | The Honorable Michael B. Hancock, Mayor, City and County of Denver, 1437 North Bannock Street, Room 350, Denver, CO 80202. | Department of Transportation and Infrastructure, 201 West Colfax Avenue, Department 608, Denver, CO 80202. | https://msc.fema.gov/portal/advanceSearch. | Jan. 13, 2023 | 080046
Douglas | Town of Castle Rock (21-08-1129P). | The Honorable Jason Gray, Mayor, Town of Castle Rock, 100 North Wilcox Street, Castle Rock, CO 80104. | Utilities Department, 175 Kellogg Court, Castle Rock, CO 80109. | https://msc.fema.gov/portal/advanceSearch. | Dec. 23, 2022 | 080050
Jefferson | City of Lakewood (22-08-0288P). | The Honorable Adam Paul, Mayor, City of Lakewood, 480 South Allison Parkway, Lakewood, CO 80226. | Public Works Department, 480 South Allison Parkway, Lakewood, CO 80226. | https://msc.fema.gov/portal/advanceSearch. | Jan. 6, 2023 | 085075
Jefferson | City of Westminster (21-08-0961P). | The Honorable Nancy McNally, Mayor, City of Westminster, 4800 West 92nd Avenue, Westminster, CO 80031. | City Hall, 4800 West 92nd Avenue, Westminster, CO 80031. | https://msc.fema.gov/portal/advanceSearch. | Dec. 23, 2022 | 080008
Florida:
Monroe | Unincorporated areas of Monroe County (22-04-4391P). | The Honorable David Rice, Mayor, Monroe County Board of Commissioners, 9400 Overseas Highway, Suite 210, Marathon, FL 33050. | Monroe County Building Department, 2798 Overseas Highway, Suite 300, Marathon, FL 33050. | https://msc.fema.gov/portal/advanceSearch. | Jan. 3, 2023 | 125129
Palm Beach | City of Westlake (22-04-1062P). | The Honorable John Paul O'Connor, Mayor, City of Westlake, 4001 Seminole Pratt Whitney Road, Westlake, FL 33470. | City Hall, 4001 Seminole Pratt Whitney Road, Westlake, FL 33470. | https://msc.fema.gov/portal/advanceSearch. | Dec. 7, 2022 | 120018
Polk | City of Lakeland (21-04-5786P). | Shawn Sherrouse, Manager, City of Lakeland, 228 South Massachusetts Avenue, Lakeland, FL 33801. | Public Works Department, 407 Fairway Avenue, Lakeland, FL 33801. | https://msc.fema.gov/portal/advanceSearch. | Dec. 15, 2022 | 120267
Sarasota | City of Sarasota (22-04-2923P). | The Honorable Erik Arroyo, Mayor, City of Sarasota, 1565 1st Street, Room 101, Sarasota, FL 34236. | Development Services Department, 1565 1st Street, Sarasota, FL 34236. | https://msc.fema.gov/portal/advanceSearch. | Dec. 23, 2022 | 125150
Georgia: Richmond | City of Augusta (21-04-1504P). | The Honorable Hardie Davis, Jr., Mayor, Augusta-Richmond County, 535 Telfair Street, Suite 200, Augusta, GA 30901. | Development Services Department, 535 Telfair Street, Suite 300, Augusta, GA 30901. | https://msc.fema.gov/portal/advanceSearch. | Dec. 20, 2022 | 130158
New Mexico: Dona Ana | City of Las Cruces (21-06-3382P). | The Honorable Ken Miyagishima, Mayor, City of Las Cruces, 700 North Main Street, Las Cruces, NM 88001. | City Hall, 700 North Main Street, Las Cruces, NM 88001. | https://msc.fema.gov/portal/advanceSearch. | Dec. 29, 2022 | 355332
North Carolina:
Cumberland | City of Fayetteville (20-04-4160P). | The Honorable Mitch Colvin, Mayor, City of Fayetteville, 433 Hay Street, Fayetteville, NC 28301. | Zoning Department, 433 Hay Street, Fayetteville, NC 28301. | https://msc.fema.gov/portal/advanceSearch. | Nov. 24, 2022 | 370077
Cumberland | Unincorporated areas of Cumberland County (20-04-4160P). | The Honorable Glenn Adams, Chair, Cumberland County Board of Commissioners, 117 Dick Street, Suite 561, Fayetteville, NC 28301. | Cumberland County Planning Department, 130 Gillespie Street, Fayetteville, NC 28301. | https://msc.fema.gov/portal/advanceSearch. | Nov. 24, 2022 | 370076
Oklahoma:
Cleveland | City of Moore (22-06-0605P). | Brooks Mitchell, Manager, City of Moore, 301 North Broadway Avenue, Moore, OK 73160. | City Hall, 301 North Broadway Avenue, Moore, OK 73160. | https://msc.fema.gov/portal/advanceSearch. | Dec. 27, 2022 | 400044
Cleveland | City of Norman (22-06-0605P). | The Honorable Larry Heikkila, Mayor, City of Norman, P.O. Box 370, Norman, OK 73070. | Public Works Department, 201 West Gray, Building A, Norman, OK 73069. | https://msc.fema.gov/portal/advanceSearch. | Dec. 27, 2022 | 400046
South Carolina:
Greenville | Unincorporated areas of Greenville County (22-04-1462P). | The Honorable Butch Kirven, Chair, Greenville County Council, 301 University Ridge, Suite 2400, Greenville, SC 29601. | Greenville County Floodplain Management Department, 301 University Ridge, Suite 4100, Greenville, SC 29601. | https://msc.fema.gov/portal/advanceSearch. | Dec. 28, 2022 | 450089
Horry | Unincorporated areas of Horry County (22-04-0406P). | The Honorable Johnny Gardner, Chair, Horry County Council, P.O. Box 1236, Conway, SC 29528. | Horry County Stormwater Department, 4401 Privetts Road, Conway, SC 29526. | https://msc.fema.gov/portal/advanceSearch. | Dec. 30, 2022 | 450104
Tennessee: Sumner | Unincorporated areas of Sumner County (22-04-4446P). | The Honorable Anthony Holt, Sumner County Executive, 355 North Belvedere Drive, Room 102, Gallatin, TN 37066. | Sumner County Administration Building, 355 North Belvedere Drive, Room 102, Gallatin, TN 37066. | https://msc.fema.gov/portal/advanceSearch. | Dec. 16, 2022 | 470349
Texas:
Brazoria | City of Pearland (21-06-3135P). | The Honorable Kevin Cole, Mayor, City of Pearland, 3519 Liberty Drive, Pearland, TX 77581. | Engineering Division, 2016 Old Alvin Road, Pearland, TX 77581. | https://msc.fema.gov/portal/advanceSearch. | Nov. 28, 2022 | 480077
Collin | City of McKinney (22-06-1326P). | The Honorable George Fuller, Mayor, City of McKinney, P.O. Box 517, McKinney, TX 75070. | Engineering Department, 221 North Tennessee Street, McKinney, TX 75069. | https://msc.fema.gov/portal/advanceSearch. | Jan. 3, 2023 | 480135
Gillespie | Unincorporated areas of Gillespie County (22-06-0845P). | The Honorable Mark Stroeher, Gillespie County Judge, 101 West Main Street, Mail Unit 9, Room 101, Fredericksburg, TX 78624. | Gillespie County Courthouse, 101 West Main Street, Mail Unit 9, Room 101, Fredericksburg, TX 78624. | https://msc.fema.gov/portal/advanceSearch. | Dec. 1, 2022 | 480696
Harris | City of Houston (21-06-3135P). | The Honorable Sylvester Turner, Mayor, City of Houston, P.O. Box 1562, Houston, TX 77251. | Floodplain Management Department, 1002 Washington Avenue, Houston, TX 77002. | https://msc.fema.gov/portal/advanceSearch. | Nov. 28, 2022 | 480296
McLennan | City of Woodway (21-06-3394P). | The Honorable Amine Qourzal, Mayor, City of Woodway, 922 Estates Drive, Woodway, TX 76712. | Community Services and Development Department, 922 Estates Drive, Woodway, TX 76712. | https://msc.fema.gov/portal/advanceSearch. | Dec. 20, 2022 | 480462
Potter | City of Amarillo (21-06-3429P). | The Honorable Ginger Nelson, Mayor, City of Amarillo, 601 South Buchanan Street, Amarillo, TX 79101. | Capital Projects and Development Engineering Department, 808 South Buchanan Street, Amarillo, TX 79101. | https://msc.fema.gov/portal/advanceSearch. | Dec. 7, 2022 | 480529
Tarrant | City of Fort Worth (22-06-0428P). | The Honorable Mattie Parker, Mayor, City of Fort Worth, 200 Texas Street, Fort Worth, TX 76102. | Transportation and Public Works Department, 200 Texas Street, Fort Worth, TX 76102. | https://msc.fema.gov/portal/advanceSearch. | Dec. 15, 2022 | 480596
Tarrant | City of Fort Worth (22-06-2031P). | The Honorable Mattie Parker, Mayor, City of Fort Worth, 200 Texas Street, Fort Worth, TX 76102. | Transportation and Public Works Department, 200 Texas Street, Fort Worth, TX 76102. | https://msc.fema.gov/portal/advanceSearch. | Jan. 12, 2023 | 480596
Tarrant | City of Grapevine (21-06-3397P). | The Honorable William D. Tate, Mayor, City of Grapevine, P.O. Box 95104, Grapevine, TX 76051. | City Hall, 200 South Main Street, Grapevine, TX 76051. | https://msc.fema.gov/portal/advanceSearch. | Jan. 13, 2023 | 480598
Virginia: Hanover | Unincorporated areas of Hanover County (22-03-0601P). | John A. Budesky, Hanover County Administrator, P.O. Box 470, Hanover, VA 23069. | Hanover County Public Works Department, 7516 County Complex Road, Hanover, VA 23069. | https://msc.fema.gov/portal/advanceSearch. | Dec. 27, 2022 | 510237

[FR Doc. 2022-21666 Filed 10-5-22; 8:45 am]

BILLING CODE 9110-12-P